Title 3—

The President

Presidential Determination No. 2007-20 of June 1, 2007

Assistance for the West Bank and Gaza

Memorandum for the Secretary of State

By the authority vested in me as President by the Constitution and the laws of the United States of America, including section 550(b) of the Foreign Operations, Export Financing, and Related Programs Appropriations Act, 2006 (FOAA)(Public Law 109-102), as amended by the Emergency Supplemental Appropriations Act for Defense, the Global War on Terror, and Hurricane Recovery, 2006 (Public Law 109-234), sections 620K(e) and 620L(b)(4) of the Foreign Assistance Act, as added by the Palestinian Anti-Terrorism Act of 2006 (Public Law 109-446), and section 301 of title 3, United States Code, I hereby certify and report that:

With respect to the provision of assistance for the administrative and personal security costs of the Office of the President of the Palestinian Authority; for the activities of the President of the Palestinian Authority to promote democracy, peaceful resolution of the Israeli-Palestinian conflict, and the rule of law and to fulfill his duties as President, including, among other things, to maintain control of the management and security of border crossings and to foster the Middle East peace process; and, with respect to independent agencies:

• it is in the national security interest of the United States to provide such assistance;

• as the case may be, the President of the Palestinian Authority, the President's party, and independent agencies and any members thereof, including any individual or entity for which assistance is proposed to be provided, are not members of, appointed by, or effectively controlled by Hamas or any other foreign terrorist organization; and

• such assistance provided hereunder will not be transferred or retransferred to any member of Hamas or other foreign terrorist organization or to any entity effectively controlled by Hamas or other foreign terrorist organization.

Accordingly, I hereby waive section 550(a) of the FOAA, as amended, and section 620K(a) of the Foreign Assistance Act, as amended, with respect to such assistance, and authorize such assistance for the above purposes.

Furthermore, I hereby determine that, with respect to assistance to nongovernmental organizations for the West Bank and Gaza other than assistance covered by paragraphs (b)(1), (2), and (3) of section 620L of the Foreign Assistance Act, as amended, it is in the national security interest of the United States to provide such assistance as the Secretary of State deems appropriate, and assign to the Secretary of State the functions under section 620L(b)(4)(B) regarding the specific programs, projects, and activities to be carried out using such assistance.

I also hereby assign the functions of the President under section 550(b) and (c) of the FOAA, as amended and as carried forward under the Revised Continuing Appropriations Resolution, 2007 (Public Law 110-5), to the Secretary of State.

You are hereby authorized and directed to report this determination to the Congress and publish it in the Federal Register.

THE WHITE HOUSE,

Washington, June 1, 2007.

[FR Doc. 07-3137

Filed 6-22-07; 9:57 am]

Billing code 4710-10